DEPARTMENT OF TRANSPORTATION

Federal Aviation Administration

Notice of Intent to Rule on Application 00-03-C-00-MDT to Impose and Use the Revenue from a Passenger Facility Charge (PFC) at Harrisburg International Airport, Middletown, PA

AGENCY: Federal Aviation Administration (FAA), DOT.

ACTION: Notice of intent to rule on application.

SUMMARY: The FAA proposes to rule and invites public comment on the application to impose and use the revenue from a PFC at Harrisburg International Airport under the provisions of the Aviation Safety and Capacity Expansion Act of 1990 (Title IX of the Omnibus Budget Reconciliation Act of 1990) (P.L. 101-508) and part 158 of the Federal Aviation Regulations (14 CFR part 158).

DATES: Comments must be received on or before March 16, 2000.

ADDRESSES: Comments on this application may be mailed or delivered in triplicate to the FAA at the following address: Ms. Roxane Wren, Harrisburg Airports District Office, 3911 Hartzdale Drive, Suite 1100, Camp Hill, PA 17011.

In addition, one copy of any comments submitted to the FAA must be mailed or delivered to Mr. David Holdsworth, Executive Director of the Susquehanna Area Regional Airport Authority at the following address: Susquehanna Area Regional Airport Authority, 135 York Drive, Suite 100, Middletown, PA 17057-5078.

Air carriers and foreign air carriers may submit copies of written comments previously provided to the Susquehanna Area Regional Airport Authority under section 158.23 of part 158.

FOR FURTHER INFORMATION CONTACT: Ms. Roxane Wren, Program Specialist, Harrisburg Airports District Office, 3911 Hartzdale Drive, Suite 1100, Camp Hill, PA 17011, 717-730-2830. The application may be reviewed in person at this same location.

SUPPLEMENTARY INFORMATION: The FAA proposes to rule and invites public comment on the application to impose and use the revenue from a PFC at Harrisburg International Airport under the provisions of the Aviation Safety and Capacity Expansion Act of 1990 (Title IX of the Omnibus Budget Reconciliation Act of 1990) (P.L. 101-508) and part 158 of the Federal Aviation Regulations (14 CFR part 158).

On January 20, 2000, the FAA determined that the application to impose and use the revenue from a PFC submitted by Susquehanna Area Regional Airport Authority was substantially complete within the requirements of section 158.25 of Part 158. The FAA will approve or disapprove the application, in whole or in part, no later than April 22, 2000.

The following is a brief overview of the application.

PFC Application No.: 00-03-C-00-MDT.

Level of the proposed PFC: $3.00.

Proposed charge effective date: July 1, 2000.

Proposed charge expiration date: May 1, 2002.

Total estimated PFC revenue: $3,715,249.00.

Brief description of proposed project(s):

—Relocate Terminal Loop Road

—Enplaned/Deplaned Drive Expansion

—Loading Bridge Replacements (2)

—PFC Application Development

Class or classes of air carriers which the public agency has requested not be required to collect PFCs: Nonscheduled/On-Demand Air Carriers.

Any person may inspect the applicationin person at the FAA office listed above under for further information contact and at the FAA regional airports office located at: Fitzgeral Federal Building #111, Airports Division, AEA-610, John F. Kennedy International Airport, Jamaica, New York, 11430.

In addition, any person may, upon request, inspect the application, notice and other documents germane to the application in person at the Susquehanna Area Regional Airport Authority.

Issued in Camp Hill, PA on January 28, 2000.
Sharon A. Daboin,
Manager, Harrisburg ADO, Eastern Region.

[FR Doc. 00-3447 Filed 2-14-00; 8:45 am]

BILLING CODE 4819-13-M